DEPARTMENT OF AGRICULTURE

Animal and Plant Health Inspection Service

9 CFR Part 94

[Docket No. APHIS-2012-0094]

Notice of a Determination Regarding the Swine Vesicular Disease Status of Certain Regions in Italy

AGENCY: Animal and Plant Health Inspection Service, USDA.

ACTION: Determination.

SUMMARY: We are advising the public that we have determined that the Italian Regions of Lombardia, Emilia-Romagna, Veneto, and Piemonte and the autonomous provinces of Trento and Bolzano are free of swine vesicular disease. Based on an assessment of the animal health status of these areas, which we made available to the public for review and comment through a previous notice of availability, the Administrator has determined that the importation of pork or pork products from these areas presents a low risk of introducing swine vesicular disease into the United States. This determination is based on our review of the documentation submitted by the Government of Italy in support of its request and the findings of our own animal health risk evaluation.

DATES: Effective Date: May 28, 2013.

FOR FURTHER INFORMATION CONTACT: Dr. Chip Wells, Senior Staff Veterinarian, Regionalization Evaluation Services, Sanitary Trade Issues Team, National Center for Import and Export, VS, APHIS, 4700 River Road Unit 38, Riverdale, MD 20737-1231; (301) 851-3089.

SUPPLEMENTARY INFORMATION:

Background

The regulations in 9 CFR part 94 (referred to below as the regulations) govern the importation of certain animals and animal products into the United States in order to prevent the introduction of various communicable diseases, including swine vesicular disease (SVD). SVD is a dangerous and destructive communicable disease of swine.

Sections 94.12 and 94.14 of the regulations contain requirements governing the importation of pork and pork products and swine, respectively, from regions where SVD exists in order to prevent the introduction of the disease into the United States. We consider SVD to exist in all regions except those listed in accordance with § 94.12(a)(2) as being free of SVD.

Section 94.13 of the regulations contains requirements governing the importation of pork or pork products from regions that have been determined to be free of SVD, but that are subject to certain restrictions because of their proximity to or trading relationships with SVD-affected regions. Such regions are listed in accordance with paragraph (a)(2) of that section.

The regulations in 9 CFR 92.2, contain requirements for requesting the recognition of the animal health status of a region or for the approval of the export of a particular type of animal or animal product to the United States from a foreign region. If, after review and evaluation of the information submitted in support of the request, the Animal and Plant Health Inspection Service (APHIS) believes the request can be safely granted, APHIS will make its evaluation available for public comment through a notice published in the Federal Register.

Following the close of the comment period, APHIS will review all comments received and will make a final determination regarding the request that will be detailed in another notice published in the Federal Register.

In accordance with that process, on December 18, 2012, we published in the Federal Register (77 FR 74787-74788, Docket No. APHIS-2012-0094) a notice of availability ¹ in which we announced the availability for review and comment of our evaluation of the SVD status of the Italian Regions of Lombardia, Emilia-Romagna, Veneto, and Piemonte and the autonomous provinces of Trento and Bolzano. Based on this evaluation, we determined that that the surveillance, prevention, and control measures implemented by Italy in the four Regions and two autonomous provinces under consideration as being free of SVD are sufficient to minimize the likelihood of introducing SVD into the United States via imports of SVD-susceptible species or products. However, because of the Regions' and autonomous provinces' proximity to or trading relationships with SVD-affected regions, we found that it is necessary to impose additional restrictions in accordance with § 94.13 on the importation of pork or pork products from the areas of Italy under consideration for being declared free of SVD.

¹ To view the notice of availability, the assessments, and the comment we received, go to http://www.regulations.gov/#!docketDetail;D=APHIS-2012-0094.

We solicited comments on the notice of availability for 60 days ending on February 19, 2013. We received one comment on our evaluation, from the European Commission's Directorate-General for Health and Consumers. The commenter was supportive of our proposed action, but raised several additional points relating to the timeline for the final determination, the disease status of Italy, and our characterization of the regulations. The comments are discussed below.

The commenter stated that the last outbreak of SVD anywhere in Italy had occurred over 9 months ago and, consequently, all of Italy has now been declared officially free of SVD according to standards established by the World Organisation for Animal Health (OIE).

Reconsideration of the status of the remainder of Italy is beyond the scope of this determination, which addresses APHIS' evaluation and recognition of the SVD status of the Italian Regions of Lombardia, Emilia-Romagna, Veneto, and Piemonte and the autonomous provinces of Trento and Bolzano. We are willing to work with the European Commission or the Government of Italy, should they request an additional evaluation that considers the SVD status of the remainder of Italy. In order to declare Italy to be free of SVD, we would need to conduct our own evaluation to assess the SVD-status of any additional regions in Italy.

The commenter said that Italy has already adopted all the safeguards necessary to avoid the spread of SVD and therefore additional requirements governing the importation of pork or pork products from regions that have been determined to be free of SVD, but that are subject to certain restrictions because of their proximity to or trading relationships with SVD-affected regions, are unnecessary.

We disagree with the commenter's assertion. As discussed in the risk analysis supporting the initial notice of availability, European Union and Italian regulations do not restrict the movement of pork or pork products from regions considered by APHIS to be SVD-affected into SVD-free regions, unless that pork is from swine that have tested positive for SVD or is from swine slaughtered as a result of an SVD outbreak. Therefore, there is the possibility that pork and pork products could be moved from an area considered to be SVD-affected by APHIS into a recognized free region of Italy, and subsequently be exported to the United States. To mitigate this risk, we will apply the restrictions listed in § 94.13, which prohibit the importation of fresh pork or pork products derived from swine originating in regions considered to be SVD-affected, to exports of pork and pork products from the Italian Regions of Lombardia, Emilia-Romagna, Veneto, and Piemonte and the autonomous provinces of Trento and Bolzano.

The commenter requested that we provide a timeline concerning implementation of our final decision and action regarding the SVD status of the Italian Regions of Lombardia, Emilia-Romagna, Veneto, and Piemonte and the autonomous provinces of Trento and Bolzano.

This final determination establishes the effective date for the action taken by APHIS in regards to the SVD status of Italy as May 28, 2013.

The initial notice of availability described the regulations in 9 CFR part 94 as governing the importation of certain animals and animal products into the United States in order to prevent the introduction of various communicable diseases, including SVD. The notice of availability further classed the diseases described in 9 CFR part 94 as “dangerous and destructive communicable diseases of ruminants and swine.” The commenter observed that, as the notice of availability was on the subject of SVD, it would be more appropriate to exclude the reference to ruminants to avoid any confusion.

The language referenced by the commenter is what we commonly use to characterize the regulations in 9 CFR part 94, which also cover ruminant diseases. We have, however, altered the wording in this final determination in order to make our focus clear.

In our December 2012 notice of availability we stated that we would consider any comments received and announce our decision regarding the disease status of the Italian Regions of Lombardia, Emilia-Romagna, Veneto, and Piemonte and the autonomous provinces of Trento and Bolzano with respect to SVD and the import status of pork and pork products. Based on the findings of our evaluation and the absence of comments that would lead us to reconsider those findings, we are announcing our determination to add the Italian Regions of Lombardia, Emilia-Romagna, Veneto, and Piemonte and the autonomous provinces of Trento and Bolzano to the list of regions declared free of SVD and to the list of regions that have been determined to be free of SVD, but that are subject to certain restrictions because of their proximity to or trading relationships with SVD-affected regions. These lists are available on the APHIS Web site at http://www.aphis.usda.gov/import_export/animals/animal_import/animal_imports_svd.shtml.

Authority: 7 U.S.C. 450, 7701-7772, 7781-7786, and 8301-8317; 21 U.S.C. 136 and 136a; 31 U.S.C. 9701; 7 CFR 2.22, 2.80, and 371.4.

Done in Washington, DC, this 22nd day of April 2013.
Kevin Shea,
Acting Administrator, Animal and Plant Health Inspection Service.

[FR Doc. 2013-09929 Filed 4-25-13; 8:45 am]

BILLING CODE 3410-34-P